NATIONAL COUNCIL ON DISABILITY

Youth Advisory Committee Meeting (Teleconference)

Time and Date: 1 p.m., e.d.t., May 19, 2005.

Place: National Council on Disability, 1331 F Street, NW., Suite 850, Washington, DC.

Agency: National Council on Disability (NCD).

Status: All parts of this meeting will be open to the public. Those interested in participating should contact the appropriate staff member listed below.

Agenda: Roll call, announcements, reports, new business, adjournment.

Contact Person for More Information: Geraldine Drake Hawkins, Ph.D., Program Analyst, National Council on Disability, 1331 F Street, NW., Suite 850, Washington, DC 20004; 202-272-2004 (voice), 202-272-2074 (TTY), 202-272-2022 (fax), ghawkins@ncd.gov (e-mail).

Youth Advisory Committee Mission: The purpose of NCD's Youth Advisory Committee is to provide input into NCD activities consistent with the values and goals of the Americans with Disabilities Act.

Dated: April 18, 2005.
Ethel D. Briggs,
Executive Director.

[FR Doc. 05-8018 Filed 4-20-05; 8:45 am]

BILLING CODE 6820-MA-P